ENVIRONMENTAL PROTECTION AGENCY

[FRL-6560-6]

Notice of Meeting of the EPA's Children's Health Protection Advisory Committee (CHPAC)

AGENCY: Environmental Protection Agency (EPA).

ACTION: Notice of meeting.

SUMMARY: Pursuant to the provisions of the Federal Advisory Committee Act, Public Law 92-463, notice is hereby given that the next meeting of the Children's Health Protection Advisory Committee (CHPAC) will be held March 28-30, 2000 at the Wyndham Hotel, 1400 M Street, NW, Washington, D.C. The CHPAC was created to advise the Environmental Protection Agency in the development of regulations, guidance and policies to address children's environmental health.

DATES: Tuesday, March 28, 2000 Work Group meetings only; plenary sessions Wednesday, March 29, 2000 and Thursday, March 31, 2000.

ADDRESSES: Wyndham Hotel, 1400 M Street, NW, Washington, D.C. 20005; 202-429-1700.

AGENDA ITEMS: The meetings of the CHPAC are open to the public. The Science and Research Work Group, the Legacy Work Group, and the Data Needs Work Group will meet from 9:30 a.m. to 5:00 p.m. on Tuesday, March 28, 2000. The plenary CHPAC will meet on Wednesday, March 29, 2000 from 9:00 a.m. to 5:30 p.m. with a public comment period at 5:00 p.m. and on Thursday, March 30, 2000 from 9:00 a.m. to 12:00 noon.

The plenary session will open with introductions and a review of the agenda and objectives for the meeting. Agenda items include discussion of the status of the CHPAC recommendations on the five standards selected for reevaluation in 1999 and reports from the other Work Groups.

FOR FURTHER INFORMATION CONTACT: Contact Paula R. Goode, Office of Children's Health Protection, USEPA, MC 1107, 401 M Street, SW, Washington, D.C. 20460, (202) 260-7778, goode.paula@epa.gov.

Dated: March 8, 2000.
Paula R. Goode,
Designated Federal Officer, Children's Health Protection Advisory Committee.

[FR Doc. 00-6390 Filed 3-14-00; 8:45 am]

BILLING CODE 6560-50-P